DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan Programs

Correction

In notice document 05-11291 beginning on page 33134 in the issue of Tuesday, June 7, 2005, make the following correction:

On page 33139, the table is corrected in part to read as follows:

[FR Doc. C5-11291 Filed X-XX-05; 8:45 am]

BILLING CODE 1505-01-D